DEPARTMENT OF COMMERCE

National Oceanic and Atmospheric Administration

50 CFR Part 648

[Docket No. 100818375-0379-02]

RIN 0648-XX84

Fisheries of the Northeastern United States; Northeast (NE) Multispecies Fishery; Reopening of a Proposed Rule Comment Period Through October 1, 2010

AGENCY: National Marine Fisheries Service (NMFS), National Oceanic and Atmospheric Administration (NOAA), Commerce.

ACTION: Proposed rule, reopening and extension of comment period.

SUMMARY: NMFS is reopening the comment period for the proposed rule to Implement Addenda to 17 Fishing Year (FY) 2010 Northeast Multispecies Sector Operations Plans and Contracts. The comment period is being reopened and extended to provide additional opportunity for public comment.

DATES: Written comments must be received by 5 p.m., local time on October 1, 2010.

ADDRESSES: You may submit comments, identified by 0648-XX84, by any one of the following methods:

• Electronic Submissions: Submit all electronic public comments via the Federal eRulemaking Portal: http://www.regulations.gov.

• Fax: (978) 281-9135, Attn: Melissa Vasquez.

• Mail: Paper, disk, or CD-ROM comments should be sent to Patricia A. Kurkul, Regional Administrator, National Marine Fisheries Service, 55 Great Republic Drive, Gloucester, MA 01930. Mark the outside of the envelope: “Comments on 2010 Sector Exemption Rule.”

• Instructions: All comments received are part of the public record and will generally be posted to http://www.regulations.gov without change. No comments will be posted for public viewing until after the comment period has closed. All Personal Identifying Information (for example, name, address, etc.) voluntarily submitted by the commenter may be publicly accessible. Do not submit Confidential Business Information or otherwise sensitive or protected information. NMFS will accept anonymous comments (enter N/A in the required fields if you wish to remain anonymous). You may submit attachments to electronic comments in Microsoft Word, Excel, WordPerfect, or Adobe PDF file formats only. Copies of requests for addenda to the FY 2010 sector operations plans and contracts, and the supplemental environmental assessment (EA), are available from the NMFS NE Regional Office at the mailing address specified above.

FOR FURTHER INFORMATION CONTACT: Melissa Vasquez, Fishery Policy Analyst, phone (978) 281-9166, fax (978) 281-9135.

SUPPLEMENTARY INFORMATION: A final rule published April 9, 2010 (75 FR 18113), approved FY 2010 sector operations plans and contracts and allocations of annual catch entitlement (ACE) for 17 NE multispecies sectors. Through this final rule, the Regional Administrator also approved exemptions for sector vessels from certain Federal fishing regulations for those sectors that requested them, in addition to the universal exemptions already approved for all sectors through Amendment 16 to the NE Multispecies Fishery Management Plan (FMP).

A proposed rule published on September 2, 2010 (75 FR 53939), proposes to implement addenda to FY 2010 NE multispecies sector operations plans and contracts that would add certain exemptions from Federal fishing regulations for FY 2010 sectors. The proposed rule considers expanding exemptions already approved for some sectors to all those that request them to maximize flexibility and improve profitability for sector vessels. It also proposes approving two new exemption requests: The Gulf of Maine (GOM) Sink Gillnet exemption and the discarding exemption for unmarketable fish. The GOM Sink Gillnet exemption is based on a program originally considered and disapproved for the common pool fishery in Amendment 16 to the NE Multispecies FMP, and would allow sector vessels to use 6-inch (15.24-cm) mesh gillnets in the GOM Regulated Mesh Area January through April 2011, to target haddock. This action also proposes a partial exemption from the prohibition on discarding of legal-size allocated stocks to allow sector vessels to discard unmarketable fish at sea, to improve safety conditions and operational flexibility for sector vessels.

The proposed rule published in the Federal Register with a 15-day comment period that closed on September 17, 2010. The New England Fishery Management Council (Council) will be discussing a number of important sector exemption requests from the proposed rule at their September 28-30, 2010, meeting. Reopening and extending the comment period to overlap with the Council meeting is necessary to provide additional time for the Council and any other interested parties to provide comment, after this proposed action is discussed at the Council meeting. Thus, NMFS is reopening and extending the comment period on the proposed rule through October 1, 2010.

Dated: September 22, 2010.
Eric C. Schwaab,
Assistant Administrator for Fisheries, National Marine Fisheries Service.

[FR Doc. 2010-24185 Filed 9-22-10; 4:15 pm]

BILLING CODE 3510-22-P